JUDICIAL CONFERENCE OF THE UNITED STATES

Hearings of the Judicial Conference Advisory Committees on the Federal Rules of Appellate Procedure and Federal Rules of Evidence

AGENCY: Advisory Committees on the Federal Rules of Appellate Procedure and Federal Rules of Evidence, Judicial Conference of the United States.

ACTION: Notice of cancellation of public hearings.

SUMMARY: The January 4, 2019 public hearings in Phoenix, Arizona, on proposed amendments to the Appellate and Evidence Rules have been canceled.

FOR FURTHER INFORMATION CONTACT: Rebecca A. Womeldorf, Rules Committee Secretary, Rules Committee Staff, Administrative Office of the United States Courts, Washington, DC 20544, telephone (202) 502-1820.

SUPPLEMENTARY INFORMATION: Announcements for this hearing were previously published in 83 FR 39463 and 83 FR 44305.

Dated: December 6, 2018.
Rebecca A. Womeldorf,
Rules Committee Secretary.

[FR Doc. 2018-26817 Filed 12-11-18; 8:45 am]

BILLING CODE 2210-55-P